DEPARTMENT OF ENERGY

Federal Energy Regulatory Commission

[Project No. 13821-002]

ORPC Alaska 2, LLC; Notice of Surrender of Preliminary Permit

Take notice that ORPC Alaska 2, LLC, permittee for the proposed East Foreland Tidal Energy Project, has requested that its preliminary permit be terminated. A successive permit was issued on June 16, 2014, and would have expired on June 1, 2016.¹ The project would have been located in Cook Inlet near Nikiski in the Kenai Peninsula Borough, Alaska.

¹ 147 FERC ¶ 62,207 (2014).

The preliminary permit for Project No. 13821 will remain in effect until the close of business, January 13, 2016. But, if the Commission is closed on this day, then the permit remains in effect until the close of business on the next day in which the Commission is open.² New applications for this site may not be submitted until after the permit surrender is effective.

² 18 CFR 385.2007(a)(2) (2015).

Dated: December 14, 2015.
Nathaniel J. Davis, Sr.,
Deputy Secretary.

[FR Doc. 2015-31971 Filed 12-18-15; 8:45 am]

BILLING CODE 6717-01-P